DEPARTMENT OF THE INTERIOR

Bureau of Land Management

[LLOR932000.L102000000.PH0000]

Notice of Re-Establishment of the Secure Rural Schools Resource Advisory Committees

AGENCY: Bureau of Land Management, Interior.

ACTION: Notice.

SUMMARY: This notice is published in accordance with Section 9(a)(2) of the Federal Advisory Committee Act of 1972. Notice is hereby given that the Secretary of the Interior (Secretary) has re-established the Bureau of Land Management's (BLM) Secure Rural Schools Resource Advisory Committees.

FOR FURTHER INFORMATION CONTACT: Allison Sandoval, BLM, Correspondence, International, and Advisory Committee Office, 1849 C Street NW., MS-MIB 5070, Washington, DC 20240; (202) 208-4294.

SUPPLEMENTARY INFORMATION: The purpose of the Committees is to provide recommendations to the Secretary for project funding, as required by the Secure Rural Schools and Community Self-Determination Act of 2000, Public Law 106-393, as amended by Public Law 110-343, Title VI (2008) and Public Law 112-557, Division F (2012).

Certification Statement

I hereby certify that the re-establishment of the Secure Rural Schools Resource Advisory Committees is necessary and in the public interest in connection with the Secretary of the Interior's responsibilities to manage the lands, resources, and facilities administered by the BLM.

Dated: July 31, 2012.
Ken Salazar,
Secretary of the Interior.

[FR Doc. 2012-19284 Filed 8-6-12; 8:45 am]

BILLING CODE 4310-33-P